DEPARTMENT OF DEFENSE

Office of the Secretary

[Docket ID: DOD-2012-OS-0043]

Privacy Act of 1974; System of Records

AGENCY: Defense Intelligence Agency, DoD.

ACTION: Notice to alter a system of records.

SUMMARY: The Defense Intelligence Agency proposes to alter a system in its existing inventory of records systems subject to the Privacy Act of 1974 (5 U.S.C. 552a), as amended.

DATES: This proposed action will be effective on May 14, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 McDill Boulevard, Washington, DC 20340-0001, or by phone at (202) 231-1193.

SUPPLEMENTARY INFORMATION: The Defense Intelligence Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 6, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 9, 2012.
Aaron Siegel,
Alternate OSD Federal Register Liaison Officer, Department of Defense.

LDIA 05-0003

System name: Joint Intelligence Virtual University (JIVU II) (March 24, 2008, 73 FR 15496)

Changes:

* * * * *

System locations:

Delete entry and replace with “Defense Intelligence Agency, 200 MacDill Blvd., Washington, DC 20340-0001.”

Categories of individuals covered by the system:

Delete entry and replace with “Federal employees, contractors and active duty service members who access the Joint Intelligence Virtual University (JIVU II) in order to facilitate a training requirement.”

Categories of records in the system:

Delete entry and replace with “All records in this system of records contain identifying information: Name, Social Security Number (SSN), Employee Identification Number (EIN), email address and organization. Records include training and education material on subject individuals that are necessary to achieve Agency and Intelligence Community missions.”

Authority for maintenance of the system:

Delete entry and replace with “5 U.S.C. Chapter 41, Training; E.O. 11348, Training and Development Policy, as amended; DoDI 3305.2, DoD General Intelligence Training; DIA 1025.200, Training of Defense Intelligence Personnel; and E.O. 9397 (SSN), as amended.”

Purpose(s):

Delete entry and replace with “The purpose of this system is to ensure Federal employees, contractors and active duty service members attain the knowledge and skills necessary to achieve Agency and Intelligence Community missions through a Web-based training environment and to link such training to the user's personnel records.”

* * * * *

Retrievability:

Delete entry and replace with “By last name, EIN or SSN.”

Safeguards:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.”

Retention and disposal:

Delete entry and replace with “Temporary records-destroy when 5 years old or when superseded or obsolete, whichever is sooner. Electronic records are deleted from the system.”

System manager(s) and address:

Delete entry and replace with “Function Lead, Joint Virtual Intelligence University (JIVU), Directorate for Human Capital, Defense Intelligence Agency, 200 MacDill Boulevard, Washington, DC 20340-0001.”

Notification procedure:

Delete entry and replace with “Individuals seeking to determine whether information about themselves is contained in this system of records should address written inquiries to the DIA Freedom of Information Office (DAN-1A), Defense Intelligence Agency, 200 MacDill Blvd., Washington, DC 20340-0001.

Request should contain the individual's full name, current address, and telephone number.”

Record access procedures:

Delete entry and replace with “Individuals seeking access to information about themselves, contained in this system of records, should address written inquiries to the DIA Freedom of Information Office (DAN-1A), Defense Intelligence Agency, 200 MacDill Boulevard, Washington, DC 20340-0001.

Request should contain the individual's full name, current address, and telephone number.”

Contesting record procedures:

Delete entry and replace with “DIA's rules for accessing records, for contesting contents and appealing initial agency determinations are published in DIA Instruction 5400.001 “Defense Intelligence Agency Privacy Program”; or may be obtained from the system manager.”

Record Source Categories:

Delete entry and replace with “Agency officials, employees, educational institutions, military organizations and other Government officials.”

* * * * *

[FR Doc. 2012-8836 Filed 4-11-12; 8:45 am]

BILLING CODE 5001-06-P